DEPARTMENT OF COMMERCE

National Oceanic and Atmospheric Administration

50 CFR Part 648

[I.D. 122200C]

Fisheries of the Northeastern United States; Northeast Skate Fishery; Scoping Process

AGENCY: National Marine Fisheries Service (NMFS), National Oceanic and Atmospheric Administration (NOAA), Commerce.

ACTION: Notice of intent to prepare an Environmental Impact Statement (EIS) and notice of scoping process; request for comments.

SUMMARY: The New England Fishery Management Council (Council) announces its intent to prepare a Fishery Management Plan (FMP) for the northeast region skate complex and to prepare an EIS to analyze the impacts of any proposed management measures. The FMP would be developed pursuant to the Magnuson-Stevens Fishery Conservation and Management Act (Magnuson-Stevens Act). The Council also formally announces the initiation of a public process to determine the scope of issues to be addressed in the environmental impact analysis. The purpose of this notice is to alert the interested public of the scoping process and to provide for public participation in compliance with environmental documentation requirements.

DATES: The Council will discuss and take scoping comments at public meetings in January and February 2001. See SUPPLEMENTARY INFORMATION for specific dates and times. Written scoping comments must be received at the appropriate address or fax number, (See ADDRESSES), on or before 5:00 p.m. local time, February 21, 2001.

ADDRESSES: Written comments and requests for copies of the scoping document and other information should be directed to Paul J. Howard, Executive Director, New England Fishery Management Council, 50 Water Street, Mill 2, Newburyport, MA 01950, Telephone (978) 465-0492. Comments may also be sent via facsimile (fax) to (978) 465-3116.

FOR FURTHER INFORMATION CONTACT: Paul J. Howard, Executive Director, (978) 465-0492.

SUPPLEMENTARY INFORMATION:

Background

The seven species in the northeast region skate complex currently include: winter skate (Leucoraja ocellata), barndoor skate (Dipturis laevis), thorny skate (Amblyraja radiata), smooth skate (Malacoraja senta), little skate (Leucoraja erinacea), clearnose skate (Raja eglanteria), and rosette skate (Leucoraja garmani). The northeast skate complex is generally distributed along the coast of the eastern United States from near the tide line to depths exceeding 700 m (383 fathoms). In the northeast region, the center of distribution for the little and winter skates is Georges Bank and Southern New England. The barndoor skate is most common in the Gulf of Maine, on Georges Bank, and in Southern New England. The thorny and smooth skates are commonly found in the Gulf of Maine. The clearnose and rosette skates have a more southern distribution, and are found primarily in the Chesapeake Bight.

Status of the Stocks

A benchmark assessment of the northeast skate complex was completed at the 30th Stock Assessment Workshop (SAW 30) in November 1999. Conclusions about the status of the seven species in the northeast region skate complex are based mainly on standardized research trawl survey data collected by the U.S. and Canada during 1963-1999. Taken as a group, the skate biomass for the seven species in the northeast region is at a medium level. The large increase in skate biomass in the mid to late 1980s was dominated by winter and little skate. The biomass of large-sized skates (>100 cm maximum length; barndoor, winter, and thorny) has steadily declined since the mid-1980s. The recent increase in aggregate skate biomass has been due to an increase in small-sized skates (<100 cm maximum length; little, clearnose, rosette, and smooth), mainly little skate.

At SAW 30, each species in the northeast skate complex was individually assessed. SAW scientists developed status determination criteria to evaluate whether overfishing was occurring and whether or not a species is in an overfished condition. Based on the SAW 30 criteria, overfishing was found to be occurring on one species of skate (winter skate), and four species were found to be in an overfished condition (winter skate, thorny skate, barndoor skate, and smooth skate).

On June 21, 1999, a notice regarding barndoor skate was published by NMFS in the Federal Register. This notice indicated that NMFS had received a petition to add the barndoor skate to the list of threatened and endangered wildlife and to designate critical habitat for barndoor skate, and was seeking information and comments. At the SAW 30 in November 1999, assessment scientists reviewed each of the ESA listing criteria relative to barndoor skate and provided an assessment with recommendations and comments regarding the potential ESA listing. The Stock Assessment Review Committee (SARC) found that there was no evidence that the barndoor skate is in danger of extinction or likely to become endangered within the foreseeable future throughout all or a significant portion of its range. As of the date of publication of this notice, NMFS has not published a decision.

In March 2000, NMFS informed the Council of its decision to designate the Council as the responsible body for the development and management of the seven species included in the northeast region skate complex. Based on work completed at SAW 30, NMFS identified four species of skates as overfished: barndoor, smooth, thorny, and winter skate. The overfished status of these species necessitates development of an FMP to end overfishing and rebuild these stocks in accordance with Section 304(e) of the Magnuson-Stevens Act.

Purpose

The purpose of the proposed Skate FMP is to establish conservation and management measures to end overfishing and rebuild overfished stocks in the northeast skate complex.

Management Options

The Skate FMP may establish mechanisms to obtain better information about individual skate species and directed and incidental skate fisheries. With the implementation of the Skate FMP, vessels may be required to obtain a Federal permit to fish for skates. Vessels with skate permits may be required to submit Vessel Trip Reports (VTRs or logbooks) for all trips. To collect better information about the skate fisheries, the Council may also require that vessels report landings and discards of skates by species and/or by fishery (wings/bait).

The low abundance level and current overfished status of barndoor skate will likely require a significant reduction in fishing mortality. Because the barndoor skate is not a primary component of either the bait fishery or the wing fishery, the Council may consider prohibiting its possession.

Clearnose and rosette skate are distributed considerably further south than the other five skates in the northeast complex, the northern extent of their ranges reaching only to waters off the New Jersey coastline. These two species are not overfished and are not known to be a component of either the bait or wing fishery in the northeast region. Including these two species as part of the northeast skate complex for management purposes could complicate the development of management measures and could pose unnecessary burdens on fisheries that do not interact with the other five species of skates. Therefore, the Council is considering eliminating clearnose and rosette skate from the northeast complex for management purposes.

The Council may consider developing a limited access program for directed and/or incidental skate fishing. This could include the establishment of a control date for skate fishing. The Council will consider other management measures (e.g., minimum sizes, gear restrictions, area closures, quotas, trip limits, fishing seasons, Skate days-at-sea, etc.) as appropriate, based on comments received through the scoping process.

Scoping Process

Scoping meetings for the Skate FMP are as follows:

1. January 23, 2001, 6 p.m., Sheraton Ferncroft Hotel, 50 Ferncroft Road, Danvers, MA 01923, (978) 777-2500; fax (978) 750-7991;

2. February 2, 2001, 10 a.m., Provincetown Town Hall, 260 Commercial Street, Provincetown, MA 02657, (508) 487-7013; fax (508) 487-9560;

3. February 6, 2001, 7 p.m., Wyndham Hotel, 700 King Street, Wilmington, DE 19801, (302) 655-0400; fax (302) 429-5979; and

4. February 12, 2001, 6 p.m., Tiverton Community Center, 346 Judson Street, Tiverton, RI 02878, (401) 625-6704; fax (401) 625-6705.

Additional meetings of the Council, Skate Committee, or Advisory Panel during the scoping period will provide opportunities for public comment on specific issues identified in the respective agendas.

All persons affected by or otherwise interested in skate fisheries management are invited to participate in determining the scope and significance of issues to be analyzed by submitting written comments (see ADDRESSES). Alternatives include not developing a management plan, developing amendments to existing plans, or other reasonable courses of action. Impacts of this proposed action to be considered in this process may be direct, indirect, individual, or cumulative. The scoping process will also identify and eliminate from detailed study issues that are not significant. Once a draft FMP and an Environmental Assessment or an EIS is developed, the Council will hold public hearings to receive comments.

Authority: 16 U.S.C. 1801 et seq.

Dated: December 26, 2000.
Valerie Chambers,
Acting Director, Office of Sustainable Fisheries, National Marine Fisheries Service.

[FR Doc. 00-33452 Filed 12-29-00; 8:45 am]

BILLING CODE 3510-22-S